DEPARTMENT OF HOMELAND SECURITY

U.S. Customs and Border Protection

Agency Information Collection Activities: Entry Summary

AGENCY: U.S. Customs and Border Protection, Department of Homeland Security.

ACTION: 30-Day notice and request for comments; Extension of an existing information collection: 1651-0022.

SUMMARY: U.S. Customs and Border Protection (CBP) of the Department of Homeland Security has submitted the following information collection request to the Office of Management and Budget (OMB) for review and approval in accordance with the Paperwork Reduction Act: Entry Summary. This is a proposed extension of an information collection that was previously approved. CBP is proposing that this information collection be extended with a change to the burden hours. This document is published to obtain comments from the public and affected agencies. This proposed information collection was previously published in the Federal Register (73 FR 36545) on June 27, 2008, allowing for a 60-day comment period. This notice allows for an additional 30 days for public comments. This process is conducted in accordance with 5 CFR 1320.10.

DATES: Written comments should be received on or before February 17, 2009.

ADDRESSES: Interested persons are invited to submit written comments on the proposed information collection to the Office of Information and Regulatory Affairs, Office of Management and Budget. Comments should be addressed to the OMB Desk Officer for Customs and Border Protection, Department of Homeland Security, and sent via electronic mail to oira_submission@omb.eop.gov or faxed to (202) 395-6974.

SUPPLEMENTARY INFORMATION: U.S. Customs and Border Protection (CBP) encourages the general public and affected Federal agencies to submit written comments and suggestions on proposed and/or continuing information collection requests pursuant to the Paperwork Reduction Act (Pub. L.104-13). Your comments should address one of the following four points:

(1) Evaluate whether the proposed collection of information is necessary for the proper performance of the functions of the agency/component, including whether the information will have practical utility;

(2) Evaluate the accuracy of the agencies'/components' estimate of the burden of the proposed collection of information, including the validity of the methodology and assumptions used;

(3) Enhance the quality, utility, and clarity of the information to be collected; and

(4) Minimize the burden of the collections of information on those who are to respond, including the use of appropriate automated, electronic, mechanical, or other technological collection techniques or other forms of information technology, e.g., permitting electronic submission of responses.

Title: Entry Summary.

OMB Number: 1651-0022.

Form Number: CBP Form 7501.

Abstract: Form 7501 is used by CBP as a record of the import transaction, to collect proper duty, taxes, exactions, certifications and enforcement endorsements. New requirements have been added to the 7501 for entry filers importing softwood lumber into the U.S., in accordance with the provisions of the Softwood Lumber Act of 2008 (SLA 2008), Title VIII of the Tariff Act of 1930.

Current Actions: This submission is being made to extend the expiration date. The burden hours were increased to allow for the implementation of the Softwood Lumber Act of 2008.

Type of Review: Extension (with change).

Affected Public: Business or other for-profit institutions.

7501 Formal Entry

Estimated Number of Respondents: 10,000.

Estimated Number of Annual Responses per Respondent: 1,920.

Estimated Total Annual Responses: 19,200,000.

Estimated Time per Response: 20 minutes.

Estimated Total Annual Burden Hours: 6,393,600.

7501 Formal Entry w/Softwood Lumber Act of 2008

Estimated Number of Respondents: 210.

Estimated Number of Annual Responses per Respondent: 1,905.

Estimated Total Annual Responses: 400,050.

Estimated Time per Response: 40 minutes.

Estimated Total Annual Burden Hours: 266,433.

7501 Informal Entry

Estimated Number of Respondents: 28,500.

Estimated Number of Annual Responses per Respondent: 98.

Estimated Total Annual Responses: 2,793,000.

Estimated Time per Response: 5 minutes.

Estimated Total Annual Burden Hours: 232,657.

If additional information is required contact: Tracey Denning, U.S. Customs and Border Protection, 1300 Pennsylvania Avenue, NW., Room 3.2.C, Washington, DC 20229, at 202-344-1429.

Dated: January 7, 2009.
Tracey Denning,
Agency Clearance Officer, Customs and Border Protection.

[FR Doc. E9-659 Filed 1-14-09; 8:45 am]

BILLING CODE 9111-14-P